DEPARTMENT OF COMMERCE

National Oceanic and Atmospheric Administration

50 CFR Part 635

[I.D. 031401D]

Atlantic Highly Migratory Species; Advisory Panel Meeting; Public Hearing

AGENCY: National Marine Fisheries Service (NMFS), National Oceanic and Atmospheric Administration (NOAA), Commerce.

ACTION: Advisory Panel meeting and public hearing.

SUMMARY: NMFS will hold a joint meeting of the Atlantic Highly Migratory Species Advisory Panel (HMS AP) and the Atlantic Billfish Advisory Panel (Billfish AP), April 2 through 4, 2001, in Silver Spring, MD. NMFS will also hold a public hearing to receive comments from fishery participants and other members of the public regarding proposed regulations open for public comment at that time. Instructions on submitting written comments will be published with the respective proposed regulations.

DATES: The joint HMS-Billfish AP meeting will be held from 1 p.m. to 5 p.m. on Monday, April 2; from 8 a.m. to 5 p.m. on Tuesday, April 3; and from 8 a.m. to 3:30 p.m. on Wednesday, April 4.

The public hearing will be held from 7 p.m. until 10 p.m. on Tuesday, April 3, 2001.

ADDRESSES: The AP meeting and the public hearing will be held in the NOAA Science Center, 1301 East-West Highway, Silver Spring, MD 20910.

Materials related to the AP meeting and public hearing are available from Othel Freeman, Highly Migratory Species Management Division, 1315 East-West Highway, Silver Spring, MD 20910, 301-713-2347.

FOR FURTHER INFORMATION CONTACT: Dr. Ronald G. Rinaldo, 301-713-2347.

SUPPLEMENTARY INFORMATION: The actions to be discussed by the APs and the proposed rules that are the subject of the hearing are necessary to address requirements of the Magnuson-Stevens Fishery Conservation and Management Act and to implement recommendations of the International Commission for the Conservation of Atlantic Tunas as required by the Atlantic Tunas Convention Act, for the conservation and management of highly migratory species.

Special Accomodations

These hearings are physically accessible to people with disabilities. Requests for sign language interpretation or other auxiliary aids should be directed to Dr. Rinaldo (see FOR FURTHER INFORMATION CONTACT) at least 7 days prior to the hearing.

Authority: 16 U.S.C. 961 et seq., and 16 U.S.C. 1801 et seq.

Dated: March 14, 2001.
Bruce C. Morehead,
Acting Director, Office of Sustainable Fisheries, National Marine Fisheries Service.

[FR Doc. 01-6764 Filed 3-14-01; 4:24 pm]

BILLING CODE 3510-22-S